FEDERAL COMMUNICATIONS COMMISSION

47 CFR Part 54

[WC Docket Nos. 11-42, 09-197 and 10-90; Report No. 3027]

Petitions for Reconsideration of Action in Rulemaking Proceeding

Correction

In proposed rule 2015-21763 appearing on page 53088 in the issue of Wednesday, September 2, 2015, make the following correction:

On page 53088, in the second column, in the sixth line, “September 11, 2015” should read “September 28, 2015”.

[FR Doc. C1-2015-21763 Filed 9-4-15; 8:45 am]

BILLING CODE 1505-01-D